DEPARTMENT OF TRANSPORTATION

Federal Highway Administration

[Docket No. FHWA-2010-0107]

Agency Information Collection Activities: Notice of Request for Approval of a New Information Collection

AGENCY: Federal Highway Administration (FHWA), DOT.

ACTION: Notice of request for approval of a new information collection.

SUMMARY: The FHWA invites public comments about our intention to request the Office of Management and Budget's (OMB) approval of a new information collection that is summarized below under SUPPLEMENTARY INFORMATION. We are required to publish this notice in the Federal Register by the Paperwork Reduction Act of 1995.

DATES: Please submit comments by October 18, 2010.

ADDRESSES: You may submit comments identified by DOT Docket ID Number 2010-0107 by any of the following methods:

Web Site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue, SE., Washington, DC 20590.

Hand Delivery or Courier: U.S. Department of Transportation, West Building Ground Floor, Room W12-140, 1200 New Jersey Avenue, SE., Washington, DC 20590, between 9 a.m. and 5 p.m. ET, Monday through Friday, except Federal holidays.

FOR FURTHER INFORMATION CONTACT: Heather Contrino, 202-366-5060, or Erica Interrante, 202-366-5048, Office of Transportation Policy Studies, Federal Highway Administration, Department of Transportation, 1200 New Jersey Avenue, SE., Washington, DC 20590, Monday through Friday, except Federal holidays.

SUPPLEMENTARY INFORMATION: Title: The Next Generation of Travel Focus Groups.

Background: The awareness and use of new technologies, communication and travel options, as well as social norms will influence transportation needs of the future. As Federal Highway Administration (FHWA) considers the future outlook of an improved National Highway System, the transportation behaviors, perspectives and needs of the younger traveler cohort is a topic of study the agency is pursuing to better evaluate future planning and policy options.

The Next Generation of Travel study, being performed through the agency's Office of Policy Transportation Studies division, will be studying existing and future travel patterns, as well as how new vehicle and transportation-related technologies affect generations and the future of personal travel. Certain generational implications on transportation that FHWA will be exploring include the following: mode choice, trip type and rates, travel time and distances, vehicle ownership and characteristics, vehicle occupancy, vehicle availability, travel costs, personal income, worker status, home and work location, life cycle, internet usage and telecommuting.

FHWA will be conducting a series of focus groups with individuals in the U.S. to gain additional understanding into the travel activities, choices and views of transportation by the traveling public. The focus groups will provide important information about the next several generations of travelers, playing a critical role in informing on the outcomes of the data analysis, the accuracy of the traveler profiles, and other new or emerging norms and perspectives not identified in previous work. The information collected will also be used to identify new and emerging travel behavior, perspectives and social norms not covered through the statistical analysis. This is the first time that FHWA will be conducting a study on this topic.

Respondents: Approximately 20 focus groups made up of 8-10 participants each from U.S. households will be held in different regions across the country. The focus groups will include participants from all the age cohorts; however, at least half of the focus groups will be made up of participants 16-29 years of age. The estimated total number of respondents is 200.

Frequency: The series of focus groups will be conducted once. No individual will participate in the focus groups more than once. The focus groups will be conducted during calendar year 2011.

Estimated Average Burden per Response: The estimated average burden per respondent is 60 minutes.

Estimated Total Annual Burden Hours: The estimated total annual burden for the focus group series is 200 hours.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: August 11, 2010.
Juli Huynh,
Chief, Management Programs and Analysis Division.

[FR Doc. 2010-20539 Filed 8-18-10; 8:45 am]

BILLING CODE 4910-22-P